FEDERAL COMMUNICATIONS COMMISSION

[Report No. 2391]

Petitions for Reconsideration of Action in Rulemaking Proceeding

March 1, 2000.

Petitions for Reconsideration and Clarification have been filed in the Commission's rulemaking proceeding listed in this Public Notice and published pursuant to 47 CFR Section 1.429(e). The full test of these documents are available for viewing and copying in Room CY-09A257, 445 12th Street, S.W., Washington, D.C. or may be purchased from the Commission's copy contractor, ITS, Inc. (202) 857-093800. Oppositions to these petitions must be filed by March 22, 2000. See Section 1.4(b)(1) of the Commission's rules (47 CFR 1.4(b)(1)). Replies to an opposition must be filed within 10 days after the time for filing oppositions has expired.

Subject: Revision of the Commission's Rules To Ensure Compatibility with Enhanced 911 Emergency Calling Systems.

Number of Petitions Filed: 2.

Federal Communications Commission.
Magalie Roman Salas,
Secretary.

[FR Doc. 00-5480 Filed 3-6-00; 8:45 am]

BILLING CODE 6712-01-M